DEPARTMENT OF COMMERCE

[I.D. 070703D]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Application for the Marine Mammal Authorization Program Under Section 118 of the Marine Mammal Protection Act.

Form Number(s): None.

OMB Approval Number: 0648-0293.

Type of Request: Regular submission.

Burden Hours: 2,800.

Number of Respondents: 12,000.

Average Hours Per Response: 15 minutes for a new application; and 9 minutes for a renewal application.

Needs and Uses: The Marine Mammal Protection Act (MMPA) requires any commercial fisher operating in a Category I or II fishery to register for a certificate of authorization that will allow the fisher to take marine mammals incidental to commercial fishing operations. Category I and II fisheries are those identified by NOAA as having either frequent or occasional takings of marine mammals.

Affected Public: Business or other for-profit organizations; and individuals or households.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: July 3, 2003.
Gwellnar Banks,
Management Analyst, Office of the Chief Information Officer.

[FR Doc. 03-17624 Filed 7-10-03; 8:45 am]

BILLING CODE 3510-22-S